FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than May 26, 2000.

A. Federal Reserve Bank of Atlanta (Lois Berthaume, Vice President) 104 Marietta Street, NW, Atlanta, Georgia 30303-2713:

1. Quitman Management Corporation, Inc., and Speed Bankshares, L.P., both of Meridian, Mississippi; to become bank holding companies by acquiring 51 percent of the voting shares of Great Southern Capital Corporation, Meridian, Mississippi, and thereby indirectly acquire Great Southern National Bank, Meridian, Mississippi.

2. Synovus Financial Corp., Columbus, Georgia; to acquire 100 percent of the voting shares of pointpathbank, N.A. (in organization), Columbus, Georgia.

B. Federal Reserve Bank of Chicago (Phillip Jackson, Applications Officer) 230 South LaSalle Street, Chicago, Illinois 60690-1414:

1. Landmark Financial Group, Inc., Belvidere, Illinois; to acquire 100 percent of the voting shares of Leland National Bancorp, Inc., Leland, Illinois, and thereby indirectly acquire LNB National Bank, Leland, Illinois.

2. Mahaska Investment Company ESOP, Oskaloosa, Iowa; to acquire an additional 2.05 percent for 11.58 percent in aggregate of the voting shares of Mahaska Investment Company, Oskaloosa, Iowa, and thereby indirectly acquire Mahaska State Bank, Oskaloosa, Iowa; Pella State Bank, Pella, Iowa; and Central Valley Bank, Ottumwa, Iowa; Midwest Federal Savings & Loan of Eastern Iowa, Burlington, Iowa, and thereby engage in operating savings and loan associations pursuant to § 225.28(b)(4).

C. Federal Reserve Bank of St. Louis (Randall C. Sumner, Vice President) 411 Locust Street, St. Louis, Missouri 63166-2034:

1. Enterbank Holdings, Inc., Clayton, Missouri; to acquire 100 percent of the voting shares of Commercial Guarantee Bancshares, Inc., Overland Park, Kansas, and thereby indirectly acquire CGB Acquisition Corp., Overland Park, Kansas, and First Commercial Bank, N.A., Overland Park, Kansas. In connection with its application, Applicant also has applied to acquire CGB Capital Corp, Overland Park, Kansas, and thereby engage in the following nonbank activities: financial and investment advisory activities pursuant to § 225.28(b)(6), private placement services pursuant to § 225.28(b)(7)(iii), and management consulting and counseling activities pursuant to § 225.28(b)(9) of Regulation Y.

Board of Governors of the Federal Reserve System, April 26, 2000.
Robert deV. Frierson,
Associate Secretary of the Board.

[FR Doc. 00-10845 Filed 5-1-00; 8:45 am]

BILLING CODE 6210-01-P